DEPARTMENT OF HEALTH AND HUMAN SERVICES

Centers for Disease Control and Prevention

[60Day-13-0214]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to LeRoy Richardson, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including the use of automated collection techniques or other forms of information technology. Written comments should be received within 60 days of this notice.

Proposed Project

National Health Interview Survey (NHIS), (OMB No. 0920-0214, Expiration 3/31/2016)—Revision—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on the extent and nature of illness and disability of the population of the United States.

The annual National Health Interview Survey is a major source of general statistics on the health of the U.S. population and has been in the field continuously since 1957. Clearance is sought for three years, to collect data for 2014, 2015, and 2016. This voluntary and confidential household-based survey collects demographic and health-related information on a nationally representative sample of persons and households throughout the country. Personal identification information is requested from survey respondents to facilitate linkage of survey data with health related administrative and other records. Each year we collect information from approximately 55,000 households, which contain about 137,500 individuals.

Information is collected using computer assisted personal interviews (CAPI). A core set of data is collected each year that remains largely unchanged while sponsored supplements vary from year to year. The core set includes sociodemographic characteristics, health status, health care services, and health behaviors. For 2014, supplemental questions will be cycled in pertaining to hearing, arthritis, and heart disease and stroke. Supplemental topics that continue or are enhanced from 2013 will be related to the Affordable Care Act, food security, children's mental health, disability and functioning, smokeless tobacco and e-cigarettes, hepatitis screening, immunizations, and computer use. In addition, a Web/CATI multimode follow-back survey will be conducted from sample adult respondents from the 2013 NHIS. The follow-back survey will focus on topics related to the Affordable Care Act including health care access and use, and health insurance coverage and will include Web, telephone, and mail interviews. Questions related to federal and state health insurance marketplaces will be included.

To improve the analytic utility of NHIS data, minority populations are oversampled annually. In 2014, in addition to ongoing sample augmentation procedures, NCHS will introduce a Native Hawaiian and Pacific Islander oversample of 4,000 addresses identified from the 2012 American Community Survey. These individuals and households will be administered the 2014 NHIS questionnaire. Results will be released as a separate file from the regular NHIS.

In accordance with the 1995 initiative to increase the integration of surveys within the DHHS, respondents to the NHIS serve as the sampling frame for the Medical Expenditure Panel Survey conducted by the Agency for Healthcare Research and Quality. The NHIS has long been used by government, university, and private researchers to evaluate both general health and specific issues, such as cancer, diabetes, and access to health care. It is a leading source of data for the Congressionally-mandated “Health US” and related publications, as well as the single most important source of statistics to track progress toward the National Health Promotion and Disease Prevention Objectives, “Healthy People 2020.”

There is no cost to the respondents other than their time.

Estimated Annualized Burden Table
Type of respondent | Form name | Number of respondents | Number of responses per respondent | Average burden per respondent in hours | Total burden in hours
Adult | Screener Questionnaire | 10,000 | 1 | 5/60 | 833
Adult Family Member | Family Core | 45,000 | 1 | 23/60 | 17,250
Sample Adult | Adult Core | 36,000 | 1 | 15/60 | 9,000
Adult Family Member | Child Core (adult family member) | 14,000 | 1 | 10/60 | 2,333
Medical Provider | Child/Teen Record Check | 8,000 | 1 | 5/60 | 667
Adult Family Member | Supplements | 45,000 | 1 | 12/60 | 9,000
Adult Family Member | Multi-mode study | 5,000 | 1 | 30/60 | 2,500
Adult Family Member | Native Hawaiian/ Pacific Islander Survey | 4,000 | 1 | 60/60 | 4,000
Adult | Reinterview Survey | 5,000 | 1 | 5/60 | 417
Total Burden Hours |  |  |  |  | 46,000

LeRoy A. Richardson,
Chief, Information Collection Review Office, Office of Scientific Integrity, Office of the Associate Director for Science, Office of the Director, Center for Disease Control and Prevention.

[FR Doc. 2013-23302 Filed 9-24-13; 8:45 am]

BILLING CODE 4163-18-P